DEPARTMENT OF TRANSPORTATION

Federal Aviation Administration

Notice of Availability of Finding of No Significant Impact/Record of Decision (FONSI/ROD), Written Reevaluation With Respect to New Information Concerning Section 4(f) Mitigation Measures, and Supplemental Department of Transportation Act Section 4(f) Determination for the Runway 6-24 Extension Project, Erie International Airport, Erie, PA

AGENCY: Federal Aviation Administration, DOT.

ACTION: Notice.

SUMMARY: The Federal Aviation Administration (FAA) is issuing this notice to advise the public that it is making available a FONSI/ROD, a Written Reevaluation of New Information Concerning Section 4(f) Mitigation Measures, and a Supplemental Section 4(f) Determination, effective February 4, 2009, for the proposed extension of Runway 6-24 at Erie International Airport (ERI), Tom Ridge Field, Erie, Pennsylvania.

SUPPLEMENTARY INFORMATION: The FAA has completed and issued its Finding of No Significant Impact/Record of Decision (FONSI/ROD) for the Reevaluation of the Environmental Assessment (EA) for the Proposed Extension of Runway 6-24 at Erie International Airport, Tom Ridge Field, Erie, Pennsylvania dated October 2005 and the Erie International Airport, Tom Ridge Field, Section 4(f) Report dated July 2005. The Written Reevaluation was required as a result of new information concerning the Section 4(f) mitigation measures for the project impacts to the Millcreek Golf Course and Learning Center in Millcreek Township. The purpose of the FONSI/ROD and Written Reevaluation was to evaluate potential environmental impacts resulting from the proposed changes in the Section 4(f) mitigation measures for the Millcreek Golf Course and Learning Center.

Copies of the FONSI/ROD and related documents are available for review by appointment only at the following locations.

Please call to make arrangements for viewing:

Federal Aviation Administration Harrisburg Airports District Office, 3905 Hartzdale Drive, Suite 508, Camp Hill, PA 17011, (717) 730-2830 and

Erie Regional Airport Authority, 4411 W. 12th Street, Erie, PA 16505-3091, (814) 833-4258.

FOR FURTHER INFORMATION CONTACT: Edward S. Gabsewics, CEP, Environmental Protection Specialist, Federal Aviation Administration, Harrisburg Airports District Office, 3905 Hartzdale Drive, Suite 508, Camp Hill, PA 17011, Telephone 717-730-2832.

Issued in Camp Hill, Pennsylvania, February 4, 2009.
Lori K. Pagnanelli,
Manager, Harrisburg Airports District Office.

[FR Doc. E9-4366 Filed 3-2-09; 8:45 am]

BILLING CODE 4910-13-M